FEDERAL RESERVE SYSTEM

Change in Bank Control Notices, Acquisition of Shares of Bank or Bank Holding Companies; Correction

This notice corrects a notice (FR Doc. E7-6987) published on pages 18655-18656 of the issue for Friday, April 13, 2007.

Under the Federal Reserve Bank of St. Louis heading, the entry for Rebecca Mason Irvine, Louisville, Kentucky, and others, is revised to read as follows:

A. Federal Reserve Bank of St. Louis (Glenda Wilson, Community Affairs Officer) 411 Locust Street, St. Louis, Missouri 63166-2034:

1. Rebecca Mason Irvine, Louisville, Kentucky, James Edward Mason, Elizabethtown, Kentucky, and Deborah Mason Garner, New Albany, Indiana, as a group acting in concert, and Darrell Richard Wells, Louisville, Kentucky, to acquire control of Magnolia Bancshares, Inc., Hodgenville, Kentucky, and thereby indirectly acquire control of Bank of Magnolia, Magnolia, Kentucky.

Comments on this application must be received by April 27, 2007.

Board of Governors of the Federal Reserve System, April 13, 2007.
Robert deV. Frierson,
Deputy Secretary of the Board.

[FR Doc. E7-7326 Filed 4-17-07; 8:45 am]

BILLING CODE 6210-01-S